DEPARTMENT OF COMMERCE

National Oceanic and Atmospheric Administration

RIN 0648-XD096

Fisheries of the South Atlantic; South Atlantic Fishery Management Council; Public Meetings

AGENCY: National Marine Fisheries Service (NMFS), National Oceanic and Atmospheric Administration (NOAA), Commerce.

ACTION: Notice of meetings of the South Atlantic Fishery Management Council's Visioning Project (Port Meetings).

SUMMARY: The South Atlantic Fishery Management Council (SAFMC) will hold a series of public port meetings as part of the Council Visioning Project.

DATES: The meetings will be held from February through April 2014. Meeting dates will be posted on the SAFMC Web site, sent out via email distribution, and other Council related outreach publications (newsletter, news releases, social media platforms, postcards, etc.).

ADDRESSES: Meeting address: The meetings will be held in communities in North Carolina, South Carolina, Georgia and Florida. Meeting locations and addresses will be posted on the SAFMC Web site, sent out via email distribution, and other Council related outreach publications (newsletter, news releases, social media platforms, postcards, etc.).

Council address: South Atlantic Fishery Management Council, 4055 Faber Place Drive, Suite 201, N. Charleston, SC 29405.

FOR FURTHER INFORMATION CONTACT: Amber Von Harten, Fishery Outreach Specialist, SAFMC; telephone: (843) 571-4366 or toll free: (866) SAFMC-10; fax: (843) 769-4520; email: amber.vonharten@safmc.net.

SUPPLEMENTARY INFORMATION: The South Atlantic Fishery Management Council is developing a long-term vision and strategic plan for managing the snapper grouper fishery along with the process for engaging stakeholders in the project. The Council views this as a plan to work cooperatively with all stakeholders having fishery interests. The visioning and strategic planning project will evaluate and refine current goals, objectives and strategies for managing the snapper grouper fishery through informed public input via port meetings.

The items of discussion during the port meetings are as follows:

Participants will discuss ideas for future long-term management of the snapper grouper fishery.

Meetings will be hosted by fishermen and others with fishery interests and facilitated by Council staff. In addition, fishermen and others with fishery interests will assist with promoting the meetings in their communities. Members of the public are encouraged to view the SAFMC Web site for more details as they become available under the Visioning Project page at www.safmc.net.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: January 21, 2014.
Tracey L. Thompson,
Acting Deputy Director, Office of Sustainable Fisheries, National Marine Fisheries Service.

[FR Doc. 2014-01417 Filed 1-23-14; 8:45 am]

BILLING CODE 3510-22-P